DEPARTMENT OF THE TREASURY

Office of Foreign Assets Control

31 CFR Part 587

Publication of Russian Harmful Foreign Activities Sanctions Regulations Web General License 128B

AGENCY: Office of Foreign Assets Control, Treasury.

ACTION: Publication of a web general license.

SUMMARY: The Department of the Treasury's Office of Foreign Assets Control (OFAC) is publishing a general license (GL) issued pursuant to the Russian Harmful Foreign Activities Sanctions Regulations: GL 128B, which was previously made available on OFAC's website.

DATES: GL 128B was issued on December 4, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On December 4, 2025, OFAC issued GL 128B to authorize certain transactions otherwise prohibited by the Russian Harmful Foreign Activities Sanctions Regulations, 31 CFR part 587. This GL was made available on OFAC's website (https://ofac.treasury.gov) when it was issued. GL 128B, which has an expiration date of April 29, 2026, replaces and supersedes GL 128A. The text of this GL is provided below.

OFFICE OF FOREIGN ASSETS CONTROL

Russian Harmful Foreign Activities Sanctions Regulations

31 CFR Part 587

GENERAL LICENSE NO. 128B

Authorizing Certain Transactions Involving Lukoil Retail Service Stations Located Outside of Russia

(a) Except as provided in paragraph (c) of this general license, all transactions prohibited by Executive Order (E.O.) 14024 involving Lukoil International GmbH (LIG) or any entity in which LIG owns, directly or indirectly, a 50 percent or greater interest, including Lukoil North America LLC and Lukoil Americas Corporation, (collectively, “LIG Entities”) that are ordinarily incident and necessary to the purchase of goods and services from, or the maintenance, operation, or wind down of, physical retail service stations located outside of the Russian Federation, are authorized through 12:01 a.m. eastern daylight time, April 29, 2026.

(b) All blocked accounts of LIG Entities may be used, debited, or credited for the transactions authorized in paragraph (a).

(c) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation;

(3) Any transactions otherwise prohibited by the Russian Harmful Foreign Activities Sanctions Regulations, 31 CFR part 587 (RuHSR), including transactions involving any person blocked pursuant to the RuHSR other than the LIG Entities described in paragraph (a) of this general license, unless separately authorized; or

(4) The transfer of funds to any person or account located in the Russian Federation.

(d) Effective December 4, 2025, General License No. 128A, dated November 14, 2025, is replaced and superseded in its entirety by this General License No. 128B.

Bradley T. Smith,

Director, Office of Foreign Assets Control.

Dated: December 4, 2025.
Bradley T. Smith,
Director, Office of Foreign Assets Control.

[FR Doc. 2026-04086 Filed 2-27-26; 8:45 am]

BILLING CODE 4810-AL-P